ENVIRONMENTAL PROTECTION AGENCY

[EPA-HQ-OA-2007-0706; FRL -9920-36-OA]

Proposed Information Collection Request; Comment Request; State Small Business Stationary Source Technical and Environmental Compliance Assistance Programs (SBTCP) Annual Reporting Form (Renewal)

AGENCY: Environmental Protection Agency (EPA).

ACTION: Notice.

SUMMARY: The Environmental Protection Agency is planning to submit an information collection request (ICR), “State Small Business Stationary Source Technical and Environmental Compliance Assistance Programs (SBTCP) Annual Reporting Form (Renewal)” (EPA ICR No. 1748.10, OMB Control No. 2060-0337) to the Office of Management and Budget (OMB) for review and approval in accordance with the Paperwork Reduction Act (44 U.S.C. 3501 et seq.). Before doing so, EPA is soliciting public comments on specific aspects of the proposed information collection as described below. This is a proposed extension of the ICR, which is currently approved through May 31, 2015. An Agency may not conduct or sponsor and a person is not required to respond to a collection of information unless it displays a currently valid OMB control number.

DATES: Comments must be submitted on or before February 9, 2015.

ADDRESSES: Submit your comments, referencing Docket ID No. EPA-HQ-OA-2007-0706 online using www.regulations.gov (our preferred method), by email to oei.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Paula Hoag, Office of Small Business Programs, (1230T), Environmental Protection Agency, 1200 Pennsylvania Ave. NW., Washington, DC 20460; telephone number: 202-566-2496; fax number: 202-566-0266; email address: hoag.paula@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: As part of the Clean Air Act Amendments of 1990, the U.S. Congress included, as part of section 507, the requirements that each state establish a Small Business Stationary Source Technical and Environmental Compliance Assistance Program to assist small businesses in complying with the Act. These programs are generally known as Small Business Environmental Assistance Programs (SBEAPs). EPA's Small Business Ombudsman must oversee the overall 507 program and be able to provide the Congress with periodical reports on the effectiveness, difficulties encountered and other relevant information on the program. Each state will submit requested information to EPA for compilation and summarization. This collection of information is mandatory under Section 507(a), (d) and (e) of the Clean Air Act as amended in 1990, Public Law 101-549, November 15, 1990. Information that is collected is aggregated and is not of a confidential nature. None of the information collected by this action results in/or requests sensitive information of any nature from the states.

Form Numbers: None.

Respondents/affected entities: State and/or state appointed entities of the 507 program, usually college or university staff.

Respondent's obligation to respond: Mandatory under Section 507(a), (d) and (e) of the Clean Air Act as amended in 1990, Public Law 101-549, November 15, 1990.

Estimated number of respondents: 53 (total).

Frequency of response: Annual.

Total estimated burden: 2,120 hours (per year). Burden is defined at 5 CFR 1320.03(b)

Total estimated cost: $ 104,664 (per year), includes $0 annualized capital or operation & maintenance costs.

Changes in Estimates: There is no change in the total estimated respondent burden compared with the ICR currently approved by OMB. There is a possibility that the total estimated cost may increase slightly due to inflation prices and will be determined once final numbers are generated but generally speaking hours spent in responding to the data collection will not change.

Dated: November 20, 2014.
Kimberly Y. Patrick,
Acting Director, Office of Small Business Programs.

[FR Doc. 2014-29085 Filed 12-10-14; 8:45 am]

BILLING CODE 6560-50-P